DEPARTMENT OF THE TREASURY

Submission for OMB Review; Comment Request

May 15, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 20, 2001 to be assured of consideration.

Internal Revenue Service (IRS)

OMB Number: 1545-0773.

Regulation Project Number: TD 8172 Final.

Type of Review: Extension.

Title: Qualification of Trustee or Like Fiduciary in Bankruptcy.

Description: Internal Revenue Code (IRC) section 6036 requires executors or receivers to advise the district director of their appointment or authorization to act. This information is necessary so that IRS will know of the proceedings and who to contact for delinquent returns or taxes.

Respondents: Individuals or households.

Estimated Number of Respondents: 50,000.

Estimated Burden Hours Per Respondent: 15 minutes.

Frequency of Response: Other (nonrecurring).

Estimated Total Reporting Burden: 12,500 hours.

OMB Number: 1545-0874.

Form Number: IRS Form 8328.

Type of Review: Extension.

Title: Carryforward Election of Unused Private Activity Bond Volume Cap.

Description: Section 146(f) of the Internal Revenue Code requires that issuing authorities of certain types of tax-exempt bonds must notify the IRS if they intend to carry forward the unused limitation for specific projects. The IRS uses the information to complete the required study of tax-exempt bonds (required by Congress).

Respondents: Business or other for-profit, State, Local or Tribal Government.

Estimated Number of Respondents/Recordkeepers: 10,000.

Estimated Burden Hours Per Respondent/Recordkeeper:

Recordkeeping | 6 hr., 27 min.
Learning about the law or the form | 2 hr., 10 min.
Preparing and sending the form to the IRS | 2 hr., 22 min.

Frequency of Response: On occasion.

Estimated Total Reporting/Recordkeeping Burden: 110,300 hours.

OMB Number: 1545-1068.

Regulation Project Number: INTL-362-88 Final.

Type of Review: Extension.

Title: Definition of a Controlled Foreign Corporation, Foreign Base Company Income, and Foreign Personal Holding Company Income of a Controlled Foreign Corporation.

Description: The election and recordkeeping requirements are necessary to exclude certain high-taxed or active business income from subpart F income or to include certain income in the appropriate category of subpart F income. The recordkeeping and election procedures allow the U.S. shareholders and the IRS to know the amount of the controlled foreign corporation's subpart F income.

Respondents: Business or other for-profit.

Estimated Number of Respondents/Recordkeepers: 50,500.

Estimated Burden Hours Per Respondent/Recordkeeper: 1 hour.

Frequency of Response: Other (one-time currency election).

Estimated Total Reporting/Recordkeeping Burden: 50,417 hours.

OMB Number: 1545-1165.

Form Number: IRS Form 8821.

Type of Review: Extension.

Title: Tax Information Authorization.

Description: Form 8821 is used to appoint someone to receive or inspect certain tax information. Data is used to identify appointees and to ensure that confidential information is not divulged to unauthorized persons.

Respondents: Individuals or households, Business or other for-profit, Not-for-profit institutions, Farms.

Estimated Number of Respondents/Recordkeepers: 200,000.

Estimated Burden Hours Per Respondent/Recordkeeper:

Recordkeeping—6 min.

Learning about the law or the form—12 min.

Preparing the form—24 min.

Copying, assembling, and sending the form to the IRS—20 min.

Frequency of Response: On occasion.

Estimated Total Reporting/Recordkeeping Burden: 210,000 hours.

OMB Number: 1545-1243.

Regulation Project Number: PS-163-84 Final.

Type of Review: Extension.

Title: Treatment of Transactions Between Partners and Partnerships.

Description: Section 707(a)(2) provides that if there are transfers of money or property between a partner and a partnership, the transfer will be treated, in certain situations, as a disguised sale between the partner and the partnership. The regulations provide that the partner or the partnership should disclose the transfers and certain attendant facts in some situations.

Respondents: Business or other for-profit.

Estimated Number of Respondents/Recordkeepers: 7,500.

Estimated Burden Hours Per Respondent/Recordkeeper: 20 minutes.

Frequency of Response: Annually.

Estimated Total Reporting/Recordkeeping Burden: 2,500 hours.

OMB Number: 1545-1255.

Regulation Project Number: INTL-870-89 NPRM.

Type of Review: Extension.

Title: Earnings Stripping (Section 163(j)).

Description: Certain taxpayers are allowed to write off the fixed basis of the stock of an acquired corporation rather than the adjusted basis of the assets acquired corporation to elect special treatment under section 163(j).

Respondents: Business or other for-profit.

Estimated Number of Respondents/Recordkeepers: 2,300.

Estimated Burden Hours Per Respondent/Recordkeeper: 31 minutes.

Frequency of Response: Annually.

Estimated Total Reporting/Recordkeeping Burden: 1,196 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports Management Officer.

[FR Doc. 01-12734 Filed 5-18-01; 8:45 am]

BILLING CODE 4830-01-U